DEPARTMENT OF COMMERCE

National Oceanic and Atmospheric Administration

RIN 0648-XG580

North Pacific Fishery Management Council; Public Meeting

AGENCY: National Marine Fisheries Service (NMFS), National Oceanic and Atmospheric Administration (NOAA), Commerce.

ACTION: Notice of a public meeting.

SUMMARY: The North Pacific Fishery Management Council's (Council) Social Science Planning Team will hold a teleconference on November 9, 2018.

DATES: The meeting will be held on Friday, November 9, 2018, from 9 a.m. to 1 p.m.

ADDRESSES: The meeting will be held telephonically at (907) 271-2896.

Council address: North Pacific Fishery Management Council, 605 W 4th Ave. Suite 306, Anchorage, AK 99501-2252; telephone: (907) 271-2809.

FOR FURTHER INFORMATION CONTACT: Sarah Marrinan, Council staff; telephone: (907) 271-2809.

SUPPLEMENTARY INFORMATION:

Agenda

Friday, November 9, 2018

Agenda topics for the teleconference include the following:

• Discuss and adopt terms of reference

• Consider document on socio-economic guidance in other Councils

• Gap analysis update and future plans

• Consider response to Council's request for Tribal representation

• Agenda items for next in-person meeting

• Other business

This meeting schedule is subject to change. Final agenda will be posted at: https://www.npfmc.org/committees/social-science-planning-team/.

Public Comment

Public comment letters will be accepted before November 5, 2018 and should be submitted either electronically to Sarah Marrinan, Council staff: sarah.marrinan@noaa.gov or through the mail: North Pacific Fishery Management Council, 605 W 4th Ave. Suite 306, Anchorage, AK 99501-2252. Oral public testimony will be accepted at the discretion of the chair.

Special Accommodations

The meeting is physically accessible to people with disabilities. Requests for sign language interpretation or other auxiliary aids should be directed to Shannon Gleason at (907) 271-2809 at least 7 working days prior to the meeting date.

Dated: October 23, 2018.
Tracey L. Thompson,
Acting Deputy Director, Office of Sustainable Fisheries, National Marine Fisheries Service.

[FR Doc. 2018-23446 Filed 10-25-18; 8:45 am]

BILLING CODE 3510-22-P